DEPARTMENT OF THE INTERIOR

Fish and Wildlife Service

Guam National Wildlife Refuge, Dededo, Guam

AGENCY: Fish and Wildlife Service, Interior.

ACTION: Notice of intent to prepare a comprehensive conservation plan; announcement of public meeting and open house; and request for comments.

SUMMARY: This notice advises the public that the U.S. Fish and Wildlife Service (Service, we) intends to prepare a Comprehensive Conservation Plan (CCP) and associated environmental compliance document for the Guam National Wildlife Refuge (Refuge). The Refuge includes the Ritidian Unit in northern Guam and two overlay units, the Andersen Air Force Base Unit in northern Guam and the Navy Unit. The Navy Unit includes portions of the Naval Computer and Telecommunications Station (NCTS) and Public Works Center (PWC) in northern Guam, and portions of the Naval Station and Ordnance Annex areas in central and southern Guam. We are furnishing this notice to advise the public and other agencies of our intentions, and to obtain public comments, suggestions, and information on the scope of issues to be considered during the CCP planning process. The Refuge will hold a public open house to provide information about the CCP and the planning process, and to obtain public comments (see SUPPLEMENTARY INFORMATION for details).

DATES: Please provide written comments on the scope of the CCP by August 31, 2007. To begin the CCP planning process, a public meeting will be held on July 14, 2007, which is also the first day of an open house that will run through July 22, 2007, see SUPPLEMENTARY INFORMATION for details.

ADDRESSES: Address comments, questions, and requests for information to Chris Bandy, Project Leader, Guam National Wildlife Refuge, P.O. Box 8134, MOU-3, Dededo, GU 96929. Comments may be faxed to the Refuge at (671) 355-5098; or e-mailed to FW1PlanningComments@fws.gov. Include “Guam NWR CCP” in the subject line of the message. Additional information about the CCP planning process is available on the Internet at: http://www.fws.gov/pacific/planning.

FOR FURTHER INFORMATION CONTACT: Chris Bandy, Project Leader, Guam National Wildlife Refuge, phone (671) 355-5096.

SUPPLEMENTARY INFORMATION: The National Wildlife Refuge System Administration Act of 1966, as amended by the National Wildlife Refuge System Improvement Act of 1997 (16 U.S.C. 668dd-668ee), requires all lands within the National Wildlife Refuge System to be managed in accordance with an approved CCP. A CCP guides a refuge's management decisions, and identifies long-range goals, objectives, and strategies for achieving the purposes for which the refuge was established. During the CCP planning process many elements will be considered, including wildlife and habitat protection and management, and public use opportunities. Public input during the planning process is essential. The CCP for the Guam Refuge will describe the purposes and desired conditions for the Refuge units, and the long-term conservation goals, objectives, and strategies for fulfilling the purposes and achieving those conditions. As part of the planning process, the Service will prepare an environmental compliance document in accordance with the National Environmental Policy Act (NEPA) of 1969, as amended (42 U.S.C. 4371 et seq.)

Public Availability of Comments

Before including your address, phone number, e-mail address, or other personal identifying information in your comment, you should be aware that your entire comment—including your personal identifying information—may be made publicly available at any time. While you can ask us in your comment to withhold your personal identifying information from public review, we cannot guarantee that we will be able to do so.

Background

Guam National Wildlife Refuge is located on the island of Guam, the southernmost island in the Mariana Islands Archipelago in the western Pacific Ocean. Guam is a U.S. Territory located between 13°15′ and 13°14′ N latitude, and between 144°30′ and 144°57′ E longitude. The Refuge is comprised of three units: the Ritidian Unit, in northern Guam; the Andersen Air Force Base Unit, in northern Guam; and the Navy Unit, with areas in northern, central, and southern Guam.

The Ritidian Unit, in northern Guam, is approximately 772 acres including approximately 370 acres of terrestrial land and 401 acres of marine waters. The Unit includes a densely vegetated coastal plain bounded on one side by sheer limestone cliffs jutting to approximately 200 feet above sea level. Native vegetation on the Ritidian Unit includes high-quality coastal strand, backstrand, and limestone forest natural communities; a sandy beach; and nearshore marine habitats to the depth of 30 meters (approximately 100 feet). The clear waters of the Ritidian Unit feature sandy areas, platform reefs, and coral habitats that support a diversity of fish, marine invertebrates, and algae and provide foraging areas for endangered hawksbill and green sea turtles.

The terrestrial lands on the Ritidian Unit are designated critical habitat for the endangered Mariana crow, the endangered Guam Micronesian kingfisher, and the threatened Mariana fruit bat. Threatened green sea turtles nest on the Unit's beach.

Management programs at the Ritidian Unit focus on preserving and restoring essential wildlife habitat, and protection and recovery of endangered and threatened species. Protecting habitat for endangered species also conserves a rich diversity of other plant and animals species. The Ritidian Unit supports a diversity of tropical trees, shrubs, vines, ferns, cycads, grasses, and other species that in turn provide habitat for native birds, the Mariana fruit bat, tree snails, coconut crabs, land crabs, skinks, geckos, and a myriad of native insects.

The Ritidian Unit is the only Refuge site on northern Guam open to the public. Visitors have access to it seven days a week from 8:30 a.m. to 4:00 p.m., except for Federal holidays. A variety of visitor programs are offered in the open areas, including certain types of fishing, wildlife observation and photography, natural and cultural resources interpretation, and environmental education. A recently opened nature center provides visitors with additional information about the wildlife values of the Unit. The public enjoys opportunities to picnic, swim, snorkel, SCUBA dive, and hike in open portions of the Ritidian Unit. Collection of traditionally important plant parts for medicine or food is allowed in a designated area with a Special Use Permit.

The 10,219-acre Air Force Unit at Andersen Air Force Base in northern Guam is contiguous with the Ritidian Unit and includes high-quality native limestone forest, coastal strand, and backstrand natural communities and beaches. The Air Force Unit supports some of the last remaining endangered Mariana crows, threatened Mariana fruit bats, and endangered Serianthes nelsoni trees in the wild, and supports a diversity of other native wildlife and plant species.

The Navy Unit includes approximately 12,237 acres of native habitats in north, central, and south Guam. High-quality habitats on the Navy Unit include limestone forest, backstrand, coastal strand, and beaches in northern and central Guam; and ravine forests, limestone forests, mangroves, and wetlands in southern and central Guam. These areas provide habitat for a diversity of tropical plants and wildlife, including threatened Mariana fruit bats, endangered Mariana swiftlets, endangered Mariana Moorhen, threatened green turtles, and a rich diversity of other plants, skinks, lizards, land snails, and land crabs. Several freshwater rivers and springs are located on Navy lands and support aquatic fauna.

Both the Air Force and Navy work cooperatively with the Service, the Guam Division of Aquatic and Wildlife Resources, and other conservation partners to implement proactive measures to protect and enhance wildlife and habitat, while operating the military bases for their primary use.

Natural resources and management programs on the Air Force and Navy Units are described in their respective Integrated Natural Resources Management Plans (INRMPs) for Navy and Air Force lands on Guam. Both INRMPs are currently being updated and will be incorporated into the CCP for the Guam Refuge. The Service is a close cooperator in the INRMPs' planning processes and will continue to have input on proposed natural resource management priorities and programs on the overlay Refuge units. The CCP will incorporate the revised or draft INRMPs by reference, extracting those programs that the Service will be most closely involved with in the foreseeable future.

Preliminary Issues, Concerns, and Opportunities

A brief summary of the preliminary issues, concerns, and opportunities that have been identified follows. The issues fall into five general categories: (1) Natural resources management on the Ritidian Unit; (2) management of visitor services on the Ritidian Unit; (3) management of cultural resources on the Ritidian Unit; (4) facilities, operations, and maintenance on the Ritidian Unit; and (5) natural resources management priorities on the Air Force and Navy Units. Additional issues may be identified during public scoping.

The CCP will focus on management at the Ritidian Unit. During the CCP planning process, the Service will analyze methods for protecting the unique and important natural and cultural resources of the terrestrial and marine portions of the Ritidian Unit in the long term, while continuing to provide quality opportunities for wildlife-dependent public uses.

The Ritidian Unit includes important cultural and historic resources that reflect human occupation and use of the area during pre-western contact periods, the early post-contact period, and on through to the modern era. Service archaeologists, working in coordination with the Guam Historic Preservation Office, have developed a draft Cultural Resources Management Plan (CRMP) for the Ritidian Unit that will be distributed for public review with the CCP. Ensuring adequate protection and management of unique cultural resources at Ritidian, and their study and interpretation, are topics that will be covered in the final CRMP.

Public Meeting and Open House

The Refuge will hold a public meeting that will include a brief presentation and information and handouts about the Refuge and CCP planning process. The meeting will be held on Saturday, July 14, 2007, from 10 a.m. to 12 noon at the Guam National Wildlife Refuge Headquarters' Nature Center located on the Ritidian Unit, at the end of Route 3A, in northern Guam. An informal open house will continue in the Nature Center from July 15 through July 22, 2007. A specific area will be set up for the public to obtain information on the CCP planning process and provide written comments. The Nature Center is open from 8:30 a.m. to 4 p.m. daily (except Federal holidays). Additional opportunities for public input will be announced throughout the CCP planning process.

Dated: June 29, 2007.
David J. Wesley,
Acting Regional Director, Region 1, Portland, Oregon.

[FR Doc. E7-13084 Filed 7-5-07; 8:45 am]

BILLING CODE 4310-55-P